DEPARTMENT OF AGRICULTURE

Forest Service

Colville National Forest, WA; Growden Dam and Sherman Creek Restoration

AGENCY: Forest Service, USDA.

ACTION: Revised notice of intent to prepare an environmental impact statement.

SUMMARY: On March 1, 2004, the Forest Service published a Notice of Intent to prepare an environmental impact statement for the Growden Dam and Sherman Creek Restoration Project in the Federal Register (69 FR 9569). The Forest Service is revising the project title, the proposed action, the date the EIS is expected to be available for public review and comment, the expected date of release of the final EIS, and the name of the Responsible Official.

The project title will be changed to Growden Dam, Sherman Creek Restoration Project and Forest Plan Amendment #28.

The proposed action is modified to include Forest Plan Amendment #28, which would change the visual quality objective for the Growden Dam area from “Retention” to “Restoration” until such time as the vegetation recovers. The immediate foreground area around Growden Dam, a significant dispersed recreation site, would be a construction zone visible from Washington State Highway 20 under each of the three action alternatives.

Depending on the alternative selected, there would be up to eight acres of unvegetated landscape next to the highway in the first year of construction. A change in visual quality objective to “Restoration” would be in effect until vegetation is reestablished. Within one season grass is expected to cover most of the site and trees and shrubs will have been planted. It is expected that trees and shrubs would be established within five years and the area will appear more natural.

DATES: The date the draft EIS should be available for comment is April 29, 2005, and the date of release of the final EIS is expected to be in July 2005.

Responsible Official

The Responsible Official is Rick Brazell, Forest Supervisor, 765 South Main, Colville, WA 99114, phone (509) 684-7000, fax (509) 684-7280.

FOR FURTHER INFORMATION CONTACT: Karen Honeycutt, Fisheries Biologist, Colville National Forest (see address above).

Dated: April 13, 2005.
Donald N. Gonzalez,
Acting Forest Supervisor.

[FR Doc. 05-7785 Filed 4-18-05; 8:45 am]

BILLING CODE 3410-11-M